DEPARTMENT OF STATE

[Public Notice: 10375]

In the Matter of the Amendment of the Designation of Laskar-e-Tayyiba (and Other Aliases) as a Specially Designated Global Terrorist

Based upon a review of the administrative record assembled in this matter, and in consultation with the Attorney General and the Secretary of the Treasury, I have concluded that there is a sufficient factual basis to find that Lashkar-e-Tayyiba (and other aliases) is also known as Tehreek-e-Azadi-e-Kashmir, also known as Kashmir Freedom Movement, also known as Tehreek Azadi Jammu and Kashmir, also known as Tehreek-e-Azadi Jammu and Kashmir, also known as TAJK, also known as Movement for Freedom of Kashmir, also known as Tehrik-i-Azadi-i Kashmir, also known as Tehreek-e-Azadi-e-Jammu and Kashmir, also known as Milli Muslim League, also known as Milli Muslim League Pakistan, also known as MML.

Therefore, pursuant to Section 1(b) of Executive Order 13224, I hereby amend the designation of Lashkar-e-Tayyiba as a Specially Designated Global Terrorist to include the following new aliases: Tehreek-e-Azadi-e-Kashmir, also known as Kashmir Freedom Movement, also known as Tehreek Azadi Jammu and Kashmir, also known as Tehreek-e-Azadi Jammu and Kashmir, also known as TAJK, also known as Movement for Freedom of Kashmir, also known as Tehrik-i-Azadi-i Kashmir, also known as Tehreek-e-Azadi-e-Jammu and Kashmir, also known as Milli Muslim League, also known as Milli Muslim League Pakistan, also known as MML.

This determination shall be published in the Federal Register.

Dated: March 24, 2018.
John J. Sullivan,
Deputy Secretary of State.

[FR Doc. 2018-06765 Filed 4-3-18; 8:45 am]

BILLING CODE 4710-AD-P